DEPARTMENT OF THE INTERIOR

National Park Service

Notice of Availability of the Draft Site Progress Report to the World Heritage Committee, Yellowstone National Park

AGENCY: National Park Service, Interior.

SUMMARY: Pursuant to the Decision adopted by the 27th Session of the World Heritage Committee (Document: WHC-03/27.COM/7A.12) accepted by the United States Government, the National Park Service (NPS) announces the publication for comment of a Draft Site Progress Report to the World Heritage Committee for Yellowstone National Park, Wyoming, Idaho and Montana.

DATES: There will be a 15-day public review period for comments on this document. Comments must be received on or before January 27, 2006.

ADDRESSES: The Draft Site Report is posted on the park's Web site at: http://www.nps.gov/yell/publications/worldheritage/index.htm.

Copies are also available by writing to Suzanne Lewis, Superintendent, Yellowstone National Park, P.O. Box 168, Yellowstone National Park, WY 82190-0168; by telephoning 307-344-2002; by sending an e-mail message to yell_world_heritage@nps.gov; or by picking up a copy in person at the park's headquarters in Mammoth Hot Springs, Wyoming, 82190.

FOR FURTHER INFORMATION CONTACT: Suzanne Lewis, Superintendent, Yellowstone National Park, P.O. Box 168, Yellowstone National Park, WY 82190-0168, or by calling 307-344-2002.

A. Public Comment Solicitation

Persons wishing to comment may do so by any one of several methods. They may mail comments to Suzanne Lewis, Superintendent, Yellowstone National Park, P.O. Box 168, Yellowstone National Park, WY 82190-0168. They also may comment via e-mail to yell_world_heritage@nps.gov (include name and return address in the e-mail message). Finally, they may hand-deliver comments to park headquarters in Mammoth Hot Springs, Wyoming 82190.

The NPS practice is to make comments, including names and home addresses of respondents, available for public review during regular business hours. Individual respondents may request we withhold their home address from the record, which we will honor to the extent allowable by law. There also may be circumstances in which we would withhold from the record a respondent's identify, as allowable by law. If you wish us to withhold your name and/or address, you must state this prominently at the beginning of your comment. However, we will not consider anonymous comments. We will make all submissions from organizations or businesses, and from individuals identifying themselves as representatives or officials of organizations or businesses, available for public inspection in their entirety.

Dated: December 21, 2005.
Paul Hoffman,
Deputy Assistant Secretary Fish and Wildlife and Parks.

[FR Doc. E6-231 Filed 1-11-06; 8:45 am]

BILLING CODE 4312-52-P